SMALL BUSINESS ADMINISTRATION

[Disaster Declaration #15291 and #15292; TEXAS Disaster Number TX-00488]

Presidential Declaration Amendment of a Major Disaster for Public Assistance Only for the State of Texas

AGENCY: U.S. Small Business Administration.

ACTION: Amendment 1.

SUMMARY: This is an amendment of the Presidential declaration of a major disaster for Public Assistance Only for the State of Texas (FEMA-4332-DR), dated 09/04/2017.

Incident: Hurricane Harvey.

Incident Period: 08/23/2017 and continuing.

DATES: Issued on 09/12/2017.

Physical Loan Application Deadline Date: 11/03/2017.

Economic Injury (EIDL) Loan Application Deadline Date: 06/04/2018.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416, (202) 205-6734.

SUPPLEMENTARY INFORMATION: The notice of the President's major disaster declaration for Private Non-Profit organizations in the State of Texas, dated 09/04/2017, is hereby amended to include the following areas as adversely affected by the disaster.

Primary Counties: Bee, Refugio

All other information in the original declaration remains unchanged.

(Catalog of Federal Domestic Assistance Number 59008)

James E. Rivera,
Associate Administrator for Disaster Assistance.

[FR Doc. 2017-19970 Filed 9-19-17; 8:45 am]

BILLING CODE 8025-01-P